INTERNATIONAL TRADE COMMISSION

[Investigation No. 731-TA-752 (Third Review)]

Crawfish Tail Meat from China

Determination

On the basis of the record ¹ developed in the subject five-year review, the United States International Trade Commission (Commission) determines, pursuant to section 751(c) of the Tariff Act of 1930 (19 U.S.C. 1675(c)), that revocation of the antidumping duty order on crawfish tail meat from China would be likely to lead to continuation or recurrence of material injury to an industry in the United States within a reasonably foreseeable time. ²

¹ The record is defined in sec. 207.2(f) of the Commission's Rules of Practice and Procedure (19 CFR 207.2(f)).

² Commissioner Rhonda Schmidtlein was not a member of the Commission at the time of the vote.

Background

The Commission instituted this review on November 1, 2013 (78 FR 65709) and determined on February 4, 2014 that it would conduct an expedited review (79 FR 10181, February 24, 2014).

The Commission completed and filed its determination in this review on April 28, 2014. The views of the Commission are contained in USITC Publication 4460 (April 2014), entitled Crawfish Tail Meat from China: Investigation No. 731-TA-752 (Third Review).

Issued: April 28, 2014.
By order of the Commission.
Lisa R. Barton,
Secretary to the Commission.

[FR Doc. 2014-10002 Filed 5-1-14; 8:45 am]

BILLING CODE 7020-02-P